DEPARTMENT OF COMMERCE

International Trade Administration

[A-570-970]

Multilayered Wood Flooring From the People's Republic of China: Initiation of Antidumping Duty New Shipper Reviews; 2014-2015

AGENCY: Enforcement and Compliance, International Trade Administration, Department of Commerce.

SUMMARY: The Department of Commerce is initiating new shipper reviews of the antidumping duty order on multilayered wood flooring from the People's Republic of China for Jiangsu Keri Wood Co., Ltd. (“Keri Wood”) and Zhejiang Simite Wooden Co., Ltd. (“Simite Wooden”). The period of review (“POR”) is December 1, 2014, through November 30, 2015.

DATES: Effective Date: January 27, 2016.

FOR FURTHER INFORMATION CONTACT: Maisha Cryor, AD/CVD Operations, Office 4, Enforcement and Compliance, International Trade Administration, U.S. Department of Commerce, 14th Street and Constitution Avenue NW., Washington, DC 20230; telephone: 202-482-5831.

SUPPLEMENTARY INFORMATION:

Background

The Department of Commerce (“Department”) published the AD order on multilayered wood flooring from the PRC on December 8, 2011.¹ On December 31, 2015, the Department received timely new shipper review requests from Keri Wood and Simite Wooden, respectively, in accordance with section 751(a)(2)(B)(i) of the Tariff Act of 1930, as amended (“the Act”), and 19 CFR 351.214(c).²

¹ See Multilayered Wood Flooring from the People's Republic of China: Amended Final Determination of Sales at Less Than Fair Value and Antidumping Duty Order, 76 FR 76690 (December 8, 2011) (“Order”), as amended Multilayered Wood Flooring from the People's Republic of China: Amended Antidumping and Countervailing Duty Orders, 77 FR 5484 (February 3, 2012).

² See Letter from Keri Wood to the Secretary of Commerce “Multilayered Wood Flooring from the People's Republic of China: New Shipper Review,” dated December 31, 2015 (“Keri Wood Initiation Request”); see also Simite Wooden to the Secretary of Commerce “Multilayered Wood Flooring from the People's Republic of China; A-570-970; Request for Antidumping Duty New Shipper Review,” dated December 31, 2015 (“Simite Wooden Initiation Request”).

In their submissions, Keri Wood and Simite Wooden stated that they are both the producers and exporters of the subject merchandise upon which their respective review requests were based.³ Pursuant to section 751(a)(2)(B)(i)(I) of the Act and 19 CFR 351.214(b)(2)(i), Keri Wood and Simite Wooden certified that they did not export multilayered wood flooring to the United States during the period of investigation (“POI”).⁴ In addition, pursuant to section 751(a)(2)(B)(i)(II) of the Act and 19 CFR 351.214(b)(2)(iii)(A), Keri Wood and Simite Wooden certified that, since the initiation of the investigation, they have never been affiliated with any producer or exporter that exported multilayered wood flooring to the United States during the POI, including those not individually examined during the investigation.⁵ As required by 19 CFR 351.214(b)(2)(iii)(B), Keri Wood and Simite Wooden also certified that their export activities were not controlled by the central government of the PRC.⁶

³ See Keri Wood Initiation Request at 2 and Exhibit 2; see also Simite Wooden Initiation Request at 1-2.

⁴ See Keri Wood Initiation Request at 2 and Exhibit 2; see also Simite Wooden Initiation Request at 2 and Exhibit Req-3.

⁵ See Keri Wood Initiation Request at Exhibit 2; see also Simite Wooden Initiation Request at 2-3 and Exhibit Req-3.

⁶ See Keri Wood Initiation Request at Exhibit 2; see also Simite Wooden Initiation Request at 3 and Exhibit Req-3.

In addition to the certifications described above, pursuant to 19 CFR 351.214(b)(2)(iv), Keri Wood and Simite Wooden submitted documentation establishing the following: (1) The date on which each company first shipped multilayered wood flooring for export to the United States and the date on which the multilayered wood flooring was first entered, or withdrawn from warehouse, for consumption; (2) the volume of its first shipment; and (3) the date of its first sale to an unaffiliated customer in the United States.⁷

⁷ See Keri Wood Initiation Request at Exhibit 1; see also Simite Wooden Initiation Request at Exhibit Req-1.

The Department conducted U.S. Customs and Border Protection (“CBP”) database queries and confirmed that Keri Wood and Simite Wooden's shipments of subject merchandise had entered the United States for consumption and that liquidation of such entries had been properly suspended for antidumping duties. The Department also confirmed by examining CBP data that Keri Wood and Simite Wooden entries were made during the POR specified by the Department's regulations.⁸

⁸ See January 15, 2016, Memoranda to the File, regarding “U.S. Customs and Border Protection Data” for Keri Wood and Simite Wooden; see also Memorandum to the File entitled, “Initiation of Antidumping New Shipper Review of Multilayered Wood Flooring from the People's Republic of China: Jiangsu Keri Wood Co., Ltd. (“Keri Wood Initiation Checklist”) dated concurrently with this notice; Memorandum to the File entitled, “Initiation of Antidumping New Shipper Review of Multilayered Wood Flooring from the People's Republic of China: Zhejiang Simite Wooden Co., Ltd.” (“Simite Wooden Initiation Checklist”) dated concurrently with this notice. As noted in the Simite Wooden Initiation Checklist, the Department is seeking additional information regarding the entry forming the basis for Simite Wooden's new shipper review.

Period of Review

Pursuant to 19 CFR 351.214(g)(1)(i)(A), the POR for the new shipper reviews of Keri Wood and Simite Wooden is December 1, 2014, through November 30, 2015.

Initiation of New Shipper Reviews

Pursuant to section 751(a)(2)(B) of the Act and 19 CFR 351.214(b), and the information on the record, the Department finds that the requests submitted by Keri Wood and Simite Wooden meet the threshold requirements for initiation of new shipper reviews for the shipments of multilayered wood flooring from the PRC produced and exported by these companies.⁹ However, if the information supplied by Keri Wood and Simite Wooden is later found to be incorrect or insufficient during the course of this proceeding, the Department may rescind the review or apply adverse facts available pursuant to section 776 of the Act, depending upon the facts on record.

⁹ See Keri Wood Initiation Checklist; see also Simite Wooden Initiation Checklist.

Pursuant to 19 CFR 351.221(c)(1)(i), the Department will publish the notice of initiation of a new shipper review no later than the last day of the month following the anniversary or semiannual anniversary month of the order. The Department intends to issue the preliminary results of these new shipper reviews no later than 180 days from the date of initiation, and the final results no later than 90 days from the issuance of the preliminary results.¹⁰

¹⁰ See section 751(a)(2)(B)(iv) of the Act.

It is the Department's usual practice, in cases involving non-market economies, to require that a company seeking to establish eligibility for an AD rate separate from the country-wide rate provide evidence of de jure and de facto absence of government control over the company's export activities. Accordingly, the Department will issue questionnaires to Keri Wood and Simite Wooden which will include a section requesting information with regard to these companies' export activities for separate rates purposes. The review of each exporter will proceed if the response provides sufficient indication that it is not subject to either de jure or de facto government control with respect to its export of subject merchandise.

We will instruct CBP to allow, at the option of the importer, the posting of a bond or security in lieu of a cash deposit for each entry of the subject merchandise from Keri Wood and Simite Wooden, in accordance with section 751(a)(2)(B)(iii) of the Act and 19 CFR 351.214(e). Because Keri Wood and Simite Wooden claimed that they produced and exported the subject merchandise, the Department will apply the bonding privilege only for subject merchandise that the respondent both produced and exported. To assist in its analysis of the bona fides of Keri Wood and Simite Wooden sales, upon initiation of this new shipper review, the Department will require Keri Wood and Simite Wooden to submit on an ongoing basis complete transaction information concerning any sales of subject merchandise to the United States that were made subsequent to the POR.

Interested parties requiring access to proprietary information in these new shipper reviews should submit applications for disclosure under administrative protective order in accordance with 19 CFR 351.305 and 19 CFR 351.306.

This initiation and notice are in accordance with section 751(a)(2)(B) of the Act and 19 CFR 351.214 and 19 CFR 351.221(c)(1)(i).

Dated: January 21, 2016.
Gary Taverman,
Associate Deputy Assistant Secretary for Antidumping and Countervailing Duty Operations.

[FR Doc. 2016-01644 Filed 1-26-16; 8:45 am]

BILLING CODE 3510-DS-P